DEPARTMENT OF HOUSING AND URBAN DEVELOPMENT

[Docket No. FR-5200-N-04]

Notice of Funding Availability (NOFA) for Fiscal Year 2008; Rural Housing and Economic Development Program

AGENCY: Office of the Assistant Secretary for Community Planning and Development, HUD.

ACTION: Notice of Funding Availability (NOFA) for HUD's Fiscal Year (FY) 2008 Rural Housing and Economic Development Program (RHED).

SUMMARY: Today's publication establishes the funding criteria for the FY2008 Rural Housing and Economic Development Program. Because HUD is required by statute to competitively award RHED assistance by September 1, 2008, HUD has decided to publish this NOFA separately and in advance of its FY2008 Notice of Funding Availability for HUD's Discretionary Programs (SuperNOFA). Publishing the RHED NOFA separately will permit potential applicants additional time to prepare and submit their applications. Today's publication is governed by the information and instructions found in the Notice of HUD's Fiscal Year 2008 Notice of Funding Availability (NOFA) Policy Requirements and General Section (General Section) to the SuperNOFA that HUD published on March 19, 2008 and the FY 2008 Opportunity to Register Early and Other Important Information for Electronic Application Submission Via Grants.gov (FY2008 Early Registration Notice) that was published on March 10, 2008.

Application Deadline Date: The application deadline date is May 30, 2008. Applications submitted through http://www.grants.gov must be received and validated by Grants.gov no later than 11:59:59 Eastern time on the application deadline date. The validation process may take up to 72 hours. Please be sure to read the General Section, published March 19, 2008 (73 FR 14882), for electronic application submission and receipt requirements.

FOR FURTHER INFORMATION CONTACT: The agency contact listed in Section VII of today's publication. Questions regarding the General Section or the FY 2008 Early Registration Notice, should be directed to the Office of Departmental Grants Management and Oversight at (202) 708-0667 (this is not a toll-free number) or the NOFA Information Center at (800) HUD-8929 (toll-free). Persons with hearing or speech impairments may access these numbers via TTY by calling the Federal Information Relay Service at (800) 877-8339. The NOFA Information Center is open between the hours of 10 a.m. and 6:30 p.m. Eastern time, Monday through Friday, except federal holidays.

SUPPLEMENTARY INFORMATION: Today's publication establishes the funding criteria for the FY2008 RHED Program. HUD had originally planned to include the RHED NOFA in its FY2008 Notice of Funding Availability for HUD's Discretionary Programs (SuperNOFA), which will be published in the Federal Register later this spring. However, the Federal Register was unable to accommodate HUD's publication schedule. Since HUD is required by statute to competitively award RHED assistance by September 1, 2008, HUD has decided to publish RHED NOFA separately and in advance of its FY2008 SuperNOFA. Publishing the RHED NOFA separately will permit potential applicants additional time to prepare and submit their applications. Applicants should note that today's publication, and not the version that will be published with HUD's FY2008 SuperNOFA, establishes the legal requirements for the FY2008 RHED competition. Applicants should take particular note of the “Application Deadline Date” of May 30, 2008, established by today's publication.

Today's publication is governed by the information and instructions found in the General Section (published on March 19, 2008) and the FY2008 Early Registration Notice (published on March 10, 2008). Applicants are encouraged to carefully review these two publications when preparing their applications.

Overview Information

A. Federal Agency Name: Department of Housing and Urban Development, Community Planning and Development, Office of Rural Housing and Economic Development.

B. Funding Opportunity Title: Rural Housing and Economic Development (RHED) program.

C. Announcement Type: Initial Announcement.

D. Funding Opportunity Number: FR-5200-N-04, OMB Approval Number 2506-0169.

E. Catalog of Federal Domestic Assistance (CFDA) Numbers: 14.250, Rural Housing and Economic Development.

F. Application Date: The application deadline date is May 30, 2008. Applications submitted through http://www.grants.gov must be received and validated by Grants.gov no later than 11:59:59 Eastern time on the application deadline date. The validation process may take up to 72 hours. Please be sure to read the General Section, published March 19, 2008 (73 FR 14882), for electronic application submission and receipt requirements.

G. Optional, Additional Overview Information:

Purpose of Program: The purpose of the Rural Housing and Economic Development program is to provide support for innovative housing and economic development activities in rural areas. The funds made available under this program will be awarded competitively through a selection process conducted by HUD in accordance with the HUD Reform Act.

Full Text of Announcement

I. Funding Opportunity Description

A. Background

There has been a growing national recognition of the need to provide support for local rural nonprofit organizations, community development corporations, federally recognized Indian tribes, state housing finance agencies (HFAs), and state economic development and community development agencies to expand the supply of affordable housing and to engage in economic development activities in rural areas. A number of resources are available from the federal government to address these problems, including programs of the U.S. Department of Agriculture (USDA), the Economic Development Administration (EDA), the Appalachian Regional Commission (ARC), the Department of Interior (for Indian tribes), and HUD. The Rural Housing and Economic Development program was developed to supplement these resources and to focus specifically on promoting innovative approaches to housing and economic development in rural areas. In administering these funds, HUD encourages you to coordinate your activities with those supported by any of the agencies listed above.

B. Definitions

1. Appalachia's Distressed Counties means those counties in Appalachia that the Appalachian Regional Commission (ARC) has determined to have unemployment and poverty rates that are 150 percent of the respective U.S. rates and a per capita income that is less than 67 percent of the U.S. per capita income, and have counties with 200 percent of the U.S. poverty rate and one other indicator, such as the percentage of overcrowded housing. Refer to http://www.arc.gov for a list of ARC-distressed counties and more information.

2. Colonia means any identifiable, rural community that:

a. Is located in the state of Arizona, California, New Mexico, or Texas;

b. Is within 150 miles of the border between the United States and Mexico; and

c. Is determined to be a colonia on the basis of objective need criteria, including a lack of potable water supply, lack of adequate sewage systems, and lack of decent, safe, sanitary, and accessible housing.

3. Farm Worker means a farm employee of an owner, tenant, labor contractor, or other operator raising or harvesting agricultural or aquacultural commodities, or a worker who, in the employment of a farm operator, engages in handling, planting, drying, packing, grading, storing, delivering to storage or market, or carrying to market agricultural or aquacultural commodities produced by the operator. Seasonal farm workers are those farm employees who typically do not have a constant year-round salary.

4. Firm Commitment means a letter of commitment from a partner by which an applicant's partner agrees to perform an activity specified in the application, demonstrates the financial capacity to deliver the resources necessary to carry out the activity, and commits the resources to the activity, either in cash or through in-kind contributions. It is irrevocable, subject only to approval and receipt of a fiscal year FY2008 Rural Housing and Economic Development grant. Each letter of commitment must include the organization's name and applicant's name, reference the Rural Housing and Economic Development program, and describe the proposed total level of commitment and responsibilities, expressed in dollar value for cash or in-kind contributions, as they relate to the proposed program. The commitment must be written on the letterhead of the participating organization, must be signed by an official of the organization legally able to make commitments on behalf of the organization, and must be dated no earlier than the date of publication of this NOFA. In documenting a firm commitment, the applicant's partner must:

a. Specify the authority by which the commitment is made, the amount of the commitment, the proposed use of funds, and the relationship of the commitment to the proposed investment. If the committed activity is to be self-financed, the applicant's partner must demonstrate its financial capability through a corporate or personal financial statement or other appropriate means. If any portion of the activity is to be financed through a lending institution, the participant must provide evidence of the institution's commitment to fund the loan; and

b. Affirm that the firm commitment is contingent only upon the receipt of FY 2008 Rural Housing and Economic Development funds and state a willingness on the part of the signatory to sign a legally binding agreement (conditioned upon HUD's environmental review and approval of a property, where applicable) upon award of the grant.

5. Federally Recognized Indian tribe means any tribal entity eligible to apply for funding and services from the Bureau of Indian Affairs by virtue of its status as an Indian tribe. The list of federally recognized tribes can be found in the notice published by the Department of the Interior on April 4, 2008 (73 FR 18553) and is also available from HUD.

6. Innovative Housing Activities means projects, techniques, methods, combinations of assistance, construction materials, energy efficiency improvements, or financing institutions or sources new to the eligible area or to its population. The innovative activities can also build upon and enhance a model that already exists.

7. Local Rural Nonprofit Organization or Community Development Corporation means either of the following:

a. Any private entity with tax-exempt status recognized by the Internal Revenue Service (IRS) that serves the eligible rural area identified in the application (including a local affiliate of a national organization that provides technical assistance in rural areas); or

b. Any public nonprofit entity such as a Council of Governments that will serve specific local nonprofit organizations in the eligible area.

8. Lower Mississippi Delta Region means the eight-state, 240-county/parish region defined by Congress in the Lower Mississippi Delta Development Act, Public Law 100-460. Refer to http://www.dra.gov for more information.

9. Eligible Rural Area means one of the following:

a. A non-urban place having fewer than 2,500 inhabitants (within or outside of metropolitan areas).

b. A county or parish with an urban population of 20,000 inhabitants or less.

c. Territory, including its persons and housing units, in the rural portions of “extended cities.” The U.S. Census Bureau identifies the rural portions of extended cities.

d. Open country that is not part of or associated with an urban area. The USDA describes “open country” as a site separated by open space from any adjacent, densely populated urban area. Open space includes undeveloped land, agricultural land, or sparsely settled areas, but does not include physical barriers (such as rivers and canals), public parks, commercial and industrial developments, small areas reserved for recreational purposes, or open space set aside for future development.

e. Any place with a population of 20,000 or less and not located in a Metropolitan Statistical Area.

10. State Community and/or Economic Development Agency means any state agency whose primary purpose is promotion of economic development statewide or in a local community.

11. State Housing Finance Agency means any state agency created to assist local communities and housing providers with financing assistance for development of housing in rural areas, particularly for low- and moderate-income people.

II. Award Information

A. Amount Allocated

1. Available Funds. Approximately $17,000,000 in FY2008 funding (plus any additional funds available through recapture) are being made available through this NOFA.

2. Funding Award Amount. HUD will award up to approximately $17,000,000 on a competitive basis for Support for Innovative Housing and Economic Development Activities to federally recognized Indian tribes, state housing finance agencies (HFAs), state community and/or economic development agencies, local rural nonprofit organizations, and community development corporations to support innovative housing and economic development activities in rural areas. The maximum amount awarded to a successful applicant will be $300,000.

B. Grant Amount

In the event, you, the applicant, are awarded a grant that has been reduced (e.g., the application contained some activities that were ineligible or budget information did not support the request), you will be required to modify your project plans and application to conform to the terms of HUD's approval before execution of the grant agreement.

HUD reserves the right to reduce or deobligate the award if suitable modifications to the proposed project are not submitted by the awardee within 90 days of the request. Any modifications must be within the scope of the original application. HUD reserves the right to not make awards under this NOFA.

C. Grant Period

Recipients will have 36 months from the date of the executed grant agreement to complete all project activities.

III. Eligibility Information

A. Eligible Applicants

Eligible applicants for the Rural Housing and Economic Development program are local rural nonprofit organizations, community development corporations, federally recognized Indian tribes, state housing finance agencies, and state community and/or economic development agencies. Also, you must meet all of the applicable eligibility requirements described in section III.C of the General Section.

B. Cost Sharing or Matching

There is no match required under the Rural Housing and Economic Development program. Applicants that submit evidence of leveraging dollars under Rating Factor 4 will receive points according to the scale under that factor.

C. Other

1. Eligible Activities

The following are examples of eligible activities under the Rural Housing and Economic Development program.

Permissible activities may include, but are not limited to the following:

a. The cost of using new or innovative construction, energy efficiency, or other techniques that will result in the design or construction of innovative housing and economic development projects;

b. Preparation of plans or of architectural or engineering drawings;

c. Preparation of legal documents, government paperwork, and applications necessary for construction of housing and economic development activities to occur in the jurisdiction;

d. Acquisition of land and buildings;

e. Demolition of property to permit construction or rehabilitation activities to occur;

f. Purchase of construction materials;

g. Homeownership counseling, including on the subjects of fair housing counseling, credit counseling, budgeting, access to credit, and other federal assistance available, including features for persons with disabilities, such as full accessibility, visitability, and universal design;

h. Conducting conferences or meetings with other federal or state agencies, tribes, tribally designated housing entities (TDHE), or national or regional housing organizations, to inform residents of programs, rights, and responsibilities associated with homebuying opportunities (all meetings and conferences should be provided in alternative formats for persons with a variety of disabilities, as appropriate, and in applicable languages common in the community for limited English proficient (LEP) families);

i. Establishing Community Development Financial Institutions (CDFIs), lines of credit, revolving loan funds, microenterprises, and small business incubators; and

j. Provision of direct financial assistance to homeowners/businesses/developers, etc. This can be in the form of default reserves, pooling/securitization mechanisms, loans, grants, the funding of existing individual development accounts, or similar activities.

2. Statutory and Regulatory Requirements

To be eligible for funding under HUD NOFAs issued during FY2008, you, the applicant, must meet all statutory and regulatory requirements applicable to this NOFA as described in the General Section. HUD may also eliminate ineligible activities from funding consideration and reduce funding amounts accordingly.

3. General HUD Threshold Requirements

You must meet all threshold requirements described in the General Section.

a. Ineligible Applicants. HUD will not consider an application from an ineligible applicant.

b. Economic Opportunities for Low- and Very Low-Income Persons (Section 3).

(1) Recipients of assistance under this NOFA must comply with section 3 of the Housing and Urban Development Act of 1968, 12 U.S.C. 1701u (Economic Opportunities for Low- and Very Low-Income Persons in Connection with Assisted Projects) and the HUD regulations at 24 CFR part 135, including the reporting requirements at subpart E. The purpose of Section 3 is to ensure that employment and other economic opportunities generated by HUD financial assistance shall, to the greatest extent feasible, and consistent with existing Federal, state and local laws and regulations, be directed to low- and very-low income persons, particularly those who are recipients of government assistance for housing, and to business concerns which provide economic opportunities to low- and very-low income persons. Section 3 applies to training, employment, contracting, and other economic opportunities arising in connection with the expenditure of housing assistance (including Section 8 assistance, and including other housing assistance not administered by the Assistant Secretary of Housing) and community development assistance that is used for the following projects: (1) Housing rehabilitation (including reduction and abatement of lead-based paint hazards, but excluding maintenance, repair and replacement); (2) Housing construction; and (3) Other public Construction. The Section 3 requirements apply to recipients where the amount of the assistance exceeds $200,000. Section 3 requirements apply to contractors and subcontractors performing work on Section 3 covered projects for which the amount of assistance exceeds $200,000 and the contract or subcontract exceeds $100,000. If a recipient receives Section 3 covered housing and community development assistance in excess of $200,000, but no contract exceeds $100,000, the Section 3 preference requirements only apply to the recipient. The Section 3 requirements apply to the entire project or activity that is funded with section 3 covered assistance, regardless of whether the Section 3 activity is fully or partially funded with Section 3 covered assistance.

Applicants that propose Section 3 covered projects or activities must demonstrate that they will train and employ Section 3 residents and contract with Section 3 business concerns for economic opportunities generated in conjunction with the assisted project or activity. Recipients and covered contractors may demonstrate compliance with the “greatest extent feasible” requirement of Section 3 by providing training, employment, and contracting opportunities to Section 3 residents and Section 3 business concerns. Numerical goals established in 24 CFR 135.30(b)(2) may demonstrate compliance with the requirement by committing to employ Section 3 residents as 10 percent of the aggregate number of new hires for each year over the duration of the Section 3 project. Numerical goals set forth in paragraph (c) apply to contracts awarded in conjunction with all section 3 covered projects and all section 3 covered activities. Each contractor and subcontractor covered by the regulations, may demonstrate compliance with the requirements by committing to award to Section 3 business concerns: (1) At least 10 percent of the total dollar amount of all section 3 covered contracts for building trades work arising in connection with housing rehabilitation, housing construction and other public construction; and (2) At least 3 percent of the total dollar amount of all other Section 3 covered contracts. A recipient that meets the minimum numerical goals set forth in this Section will be considered to have complied with the Section 3 preference requirements. In evaluation compliance, a recipient that has not met the numerical goals set forth in this section has the burden of demonstrating why it is not feasible to meet the numerical goals. Such justification may include impediments encountered despite actions taken. A recipient or contractor also can indicate other economic opportunities, such as those listed in 24 CFR part 135.40, which were provided in its efforts to comply with Section 3 requirements.

(2) Section 3 Reporting. Each recipient which receives directly from HUD financial assistance that is subject to Section 3 requirements, shall submit to the Assistant Secretary an annual report. If the program requires submission of an annual report, the section 3 report shall be submitted with the annual performance report. If the program does not require an annual report, the Section 3 report is to be submitted by January 10, of each year or within 10 days of project completion, whichever is earlier. Grantees are required to report on form HUD 60002. Section 3 shall also be reported using the RHED Logic Model. All reports are made available to the public.

See; 24 CFR part 135 and the General Section.

4. Program-Specific Threshold Requirements

a. The application must receive a minimum rating score of 75 points to be considered for funding.

b. HUD will only fund eligible applicants as defined in this NOFA under section III.A.

c. Applicants must serve an eligible rural area as defined in section I. of this NOFA.

d. Proposed activities must meet the objectives of the Rural Housing and Economic Development program.

e. Applicants must demonstrate that their activities will continue to serve populations that are in need and that beneficiaries will have a choice of innovative housing and economic development opportunities as a result of the activities.

IV. Application and Submission Information

A. Address To Request Application Package

This section describes how you may obtain application forms. Copies of the published Rural Housing and Economic Development NOFA and application forms may be downloaded from the Grants.gov Web site at http://www.grants.gov/applicants/apply_for_grants.jsp. You may call the Grants.gov support desk at 800-518-GRANTS, or e-mail the support desk at Support@Grants.gov for assistance in downloading the application.

B. Content and Form of Application Submission

1. Application Submission Requirements. Be sure to read and follow the application submission requirements carefully.

a. Page Numbering. All pages of the application must be numbered sequentially if you are submitting a paper copy application. For electronic application submission, you should follow the directions in the General Section.

b. Application Items. Your application must contain the items listed below.

(1) An abstract with the dollar amount requested, the category under which you qualify for “Demographics of Distress—Special Factors” under Rating Factor 2 (Need and Extent of the Problem), which of the five definitions of the term “rural area” set forth in section I B.9 of this NOFA applies to the proposed service area, and accompanying documentation as indicated on the SF-424 form.

(2) Table of Contents.

(3) A signed Application for Federal Assistance (SF-424) (application form).

(4) SF-424 Supplement Survey on Equal Opportunity for Applicants “Faith Based EEO Survey” (SF-424 SUPP) on Grants.gov (optional submission).

(5) Facsimile Transmittal (HUD-96011). (This must be used as the cover page to transmit third-party documents as part of your electronic application).

(6) Disclosure of Lobbying Activities (SF-LLL).

(7) Applicant/Recipient Disclosure/Update Report (HUD-2880) “HUD Applicant Recipient Disclosure Report” on Grants.gov.

(8) You Are Our Client! Grant Applicant Survey (HUD 2994-A) (Optional).

(9) Program Outcome Logic Model (HUD-96010).

(10) A budget for all funds (federal and non-federal including the Detailed Budget Form (HUD-424-CB) and the Grant Application Detailed Budget Worksheet (HUD 424-CBW).

(11) Certification of Consistency with RC/EZ/EC-II Strategic Plan (HUD-2990), if applicable.

(12) Certification of Consistency with the Consolidated Plan (HUD-2991), if applicable.

(13) Documentation of funds pledged in support of Rating Factor 4—“Leveraging Resources.” This documentation, which will not be counted in the 15-page limitation, must be in the form of a “firm commitment” as defined in section I.B.4 of this NOFA.

(14) If you are a private nonprofit organization, a copy of your organization's IRS ruling providing tax-exempt status under section 501 of the Internal Revenue Code of 1986, as amended.

(15) Narrative response to Factors for Award. The total narrative response to all factors should not exceed 15 pages and should be submitted on 8.5 x 11 inch single-sided paper, with 12-point font and double lined spacing. Please note that although submitting pages in excess of the page limit will not disqualify your application, HUD will not consider or review the information on any excess pages, and if you place key information on those pages, you may fail to meet a threshold requirement. In addition, applicants should be aware that additional pages increase the size of the application and the length of time it will take to electronically submit the document and have it electronically received by Grants.gov.

(16) Questionnaire for HUD's Initiative on Removal of Regulatory Barriers (Form HUD-27300) “HUD Communities Initiative Form” on Grants.gov. To get the points for this policy priority, you must include the documentation or references to Web site links where the information can be found.

All applicants are required to use the following format in their 15 page narrative responses to the rating factors included in the program NOFA:

Factor 1—Relevant Organizational Experience;

Factor 2—Need and Extent of the Problem;

Factor 3—Soundness of Approach;

Factor 4—Leveraging Resources; and

Factor 5—Achieving Results and Program Evaluation.

See section V. of this NOFA for further details.

(17) Per the General Section successful applicants engaged in housing or housing related activities are obliged to affirmatively further fair housing including taking reasonable steps to overcome barriers to fair housing choice in its service area such as:

(a) Identify Barriers—Applicants must submit a description of barriers to fair housing in their jurisdiction or service area (based on the applicable state or local Consolidated Plan and Analysis of Impediments or other source of information on impediments to fair housing). See http://www.hud.gov/offices/fheo/promotingfh.cfm for further information.

(b) Specify Activities to Affirmatively Further Fair Housing—Applicants must describe how they will address barriers to fair housing, including specifying applicable and eligible uses of RHED funds—for example, housing counseling to make persons aware of discriminatory practices, innovative housing design or construction to increase access for persons with disabilities, language assistance services to persons with limited English proficiency (on the basis of national origin), affirmative fair housing marketing, or location of new or rehabilitated housing in a manner that provides greater housing choice or mobility for persons in classes protected by the Fair Housing Act.

(c) Reporting—Applicants are obliged to maintain records of their activities to affirmatively further fair housing and describe how they plan to document such activities, as well as maintaining records on the race, ethnicity, disability status, and family status of the beneficiaries of RHED programs.

C. Submission Dates and Times

1. Electronic Application Submission. Applications for the Rural Housing and Economic Development program must be received and validated by Grants.gov no later than 11:59:59 p.m. Eastern Time on May 30, 2008, the application deadline date. Applicants are advised to submit their applications at least 48 to 72 hours in advance of the deadline date and when the Grants.gov help desk is open so that any issues can be addressed prior to the deadline date and time. Please note that validation may take up to 72 hours. You will receive an acknowledgement of receipt from Grants.gov when your application has been successfully received, and later that it has been validated or rejected. Please see the General Section for more detailed information. If you do not receive the validation or rejection notice within 24 to 48 hours, contact the Grants.gov help desk.

2. Applicants are advised to carefully read the application submission and timely receipt requirements in the General Section since they have changed from previous years.

3. Only one application will be accepted from any given organization. If more than one application is submitted electronically, the last application received and validated before the deadline date will be the one reviewed by HUD. HUD will not accept application addendums after the deadline unless HUD has specifically asked the applicant for a correction to a technical deficiency in the application. Responses to technical deficiencies must be received by HUD within the time allocated to cure the deficiency and must be submitted by facsimile using the form Facsimile Transmittal (HUD 96011) submitted to the 800-894-4047 and (215) 825-8796 fax numbers. Applicants must use the Facsimile Transmittal form submitted with the last application that was received and validated by Grants.gov prior to the deadline. This will ensure that your technical cure will be electronically associated to your previously submitted application. Failure to follow these instructions may result in your information being misdirected. The request for a technical cure will also contain instructions for when the cure must be received by the Department and other pertinent information.

D. Intergovernmental Agency Review

Intergovernmental agency review is not required for this program.

E. Funding Restrictions

1. Administrative Costs. Administrative costs for assistance under the Rural Housing and Economic Development program may not exceed 15 percent of the total HUD Rural Housing and Economic Development grant award.

2. Ineligible Activities. RHED funds cannot be used for the following activities:

a. Income payments to subsidize individuals or families;

b. Political activities;

c. General governmental expenses other than expenses related to the administrative cost of the grant; or

d. Projects or activities intended for personal gain or private use.

HUD reserves the right to reduce or deobligate the award if suitable modifications to the proposed project are not submitted by the awardee within 90 days of a request from HUD. Any modification must be within the scope of the original application. HUD reserves the right not to make awards under this NOFA.

F. Other Submission Requirements

Carefully review the procedures presented in Section IV of the FY2008 General Section because HUD will only accept electronic applications submitted through http://www.grants.gov/applicants/apply_for_grants.jsp. Applicants may request a waiver of the electronic submission requirement. Paper applications will not be accepted unless the applicant has received a waiver to the electronic submission requirement. Applicants should submit their waiver requests in writing in the form of a letter. Waiver requests must be submitted no later than 15 days prior to the application deadline date and should be submitted to the Office of Rural Housing and Economic Development, 451 7th Street, SW., Room 7137, Washington, DC 20410. Instructions regarding the number of copies to submit and to what address will be contained in the approval to the waiver request. Paper submissions must be received at the appropriate HUD office(s) no later than the deadline date.

V. Application Review Information

A. Criteria

Carefully review all the Application Review procedures in Section V of the General Section. In addition, the following Rating Factors will be used to rate your application.

1. Rating Factor 1—Capacity of the Applicant and Relevant Organizational Experience (25 Points)

This rating factor addresses the extent to which you have the organizational resources necessary to successfully implement your proposed workplan, as further described in Rating Factor 3, within the 36-month award period.

a. Team members, composition, and experience (10 points). HUD will evaluate the experience (including for recentness and relevancy) of your project director, core staff, and any outside consultant, contractor, subrecipient, or project partner as it relates to innovative housing and economic development and to the implementation of the activities in your work plan. HUD also will assess the services that consultants or other parties will provide to fill gaps in your staffing structure to enable you to carry out the proposed work plan; the experience of your project director in managing projects of similar size, scope, and dollar amount; the lines of authority and procedures that you have in place for ensuring that work plan goals and objectives will be met, that consultants and other project partners will perform as planned, and that beneficiaries will be adequately served. In judging your response to this factor, HUD will only consider work experience gained within the last 7 years. When responding, please be sure to provide the dates, job titles, and relevancy of the past experience to the work to be undertaken by the employee or contractor under your proposed Rural Housing and Economic Development award. The more recent, relevant, and successful the experience of your team members is in relationship to the work plan activities, the greater the number of points you will receive. Please do not include the Social Security Numbers (SSN) of any staff members.

b. Organizational structure and management capacity (15 points). HUD will evaluate the extent to which you can demonstrate your organization's ability to manage a workforce composed of full-time or part-time staff, as well as any consultant staff, and your ability to work with community-based groups or organizations in resolving issues related to affordable housing and economic development. In evaluating this subfactor, HUD will take into account your experience in working with community-based organizations to design and implement programs that address the identified housing and economic development issues. The more recent, relevant, and successful the experience of your organization and any participating entity, the greater the number of points you will receive.

c. Experience with performance based funding requirements. HUD will evaluate your performance in any previous grant program undertaken with HUD funds or other federal, state, local, or nonprofit or for-profit organization funds. (Note: Previous HUD performance-based experience will be verified through HUD's field offices as needed. Other relevant past performance information should be included as part of the application.) In assessing points for this sub-factor, HUD reserves the right to take into account your past performance in meeting performance and reporting goals for any previous HUD award, in particular whether the program achieved its outcomes.

HUD reserves the right to give zero points for Rating Factor 1, if the applicant has been determined to have a pattern or practice of any or all of the following activities related to the management and operation of previous grant awards: (1) Mismanagement of funds, including the inability to account for funds appropriately; (2) untimely use of funds received either from HUD or other federal, state, or local programs; and (3) significant and consistent failure to measure performance outcomes. Among the specific outcomes to be measured are the increases in program accomplishments as a result of capacity building assistance and the increase in organizational resources as a result of assistance.

Applicants who have been awarded Rural Housing and Economic Development program funds prior to FY 2008 must indicate in their response to Rating Factor 1 the fiscal year and funding amount. HUD field offices may be consulted to verify information submitted by the applicant as a part of the review of applications.

2. Rating Factor 2—Need and Extent of the Problem (20 Points)

The Rural Housing and Economic Development program is designed to address the problems of rural poverty, inadequate housing, and lack of economic opportunity. This factor addresses the extent to which there is a need for funding the proposed activities based on levels of distress, and the urgency of meeting the need/distress in the applicant's target area. In responding to this factor, applications will be evaluated on the extent to which the level of need for the proposed activity and the urgency in meeting the need are documented and compared to target area and national data.

a. In applying this factor, HUD will compare the current levels of need in the area (i.e., Census Tract(s) or Block Group(s)) immediately surrounding the project site or the target area to be served by the proposed project to national levels of need. This means that an application that provides data that show levels of need in the project area at a percent greater than the national average will be rated higher under this factor. Applicants should provide data that address indicators of need as follows:

(1) Poverty Rate (5 points)—Data should be provided in both absolute and percentage form (i.e., whole numbers and percents) for the target area(s). An application that compares the local poverty rate in the following manner to the national average at the time of submission will receive points under this section as follows:

(a) Less than the national average = 0 points;

(b) Equal to but less than twice the national average = 1 point;

(c) Twice but less than three times the national average = 3 points;

(d) Three or more times the national average = 5 points.

(2) Unemployment (5 points)—for the target area:

(a) Less than the national average = 0 points;

(b) Equal to but less than twice the national average = 1 point;

(c) Twice but less than three times the national average = 2 points;

(d) Three but less than four times the national average = 3 points;

(e) Four but less than five times the national average= 4 points;

(f) Five or more times the national average = 5 points.

(3) Other indicators of social or economic decline that best capture the applicant's local situation (5 points).

(a) Data that could be provided under this section are information on the community's stagnant or falling tax base, including recent commercial or industrial closings; housing conditions, such as the number and percentage of substandard or overcrowded units; rent burden (defined as average housing cost divided by average income) for the target area; and local crime statistics, falling property values, etc. To the extent that the applicant's statewide or local Consolidated Plan, its Analysis of Impediments to Fair Housing Choice (AI), its Indian housing plan, or its anti-poverty strategy identify the level of distress in the community and the neighborhood in which the project is to be carried out, references to such documents should be included in preparing the response to this factor.

(b) In rating applications under this factor, HUD reserves the right to consider sources of available objective data other than or in addition to those provided by applicants, and to compare such data to those provided by applicants for the project site. These may include U.S. Census data.

(c) HUD requires use of sound, verifiable, and reliable data (e.g., U.S. Census data, state statistical reports, university studies/reports, or Home Mortgage Disclosure Act or Community Reinvestment Act databases) to support distress levels cited in each application. See http://www.ffiec.gov/ or http://www.ffiec.gov/webcensus/ffieccensus.htm for census data. A source for all information along with the publication or origination date must also be provided.

(d) Updated Census data are available for the following indicators:

(i) Unemployment rate—estimated monthly for counties/parishes, with a 2-month lag;

(ii) Population—estimated for incorporated places and counties/parishes, through 2000;

(iii) Poverty rate—through 2000.

(4) Demographics of Distress—Special Factors (5 points). Because HUD is concerned with meeting the needs of certain underserved areas, you will be awarded a total of five points if you are located in or propose to serve one or more of the following populations, or if your application demonstrates that 100 percent of the beneficiaries supported by Rural Housing and Economic Development funds are in one or more of the following populations. You must also specifically identify how each population will be served and that the proposed service area meet the definition of “eligible rural area” in section I of this NOFA:

(a) Areas with very small populations in non-urban areas (2,500 population or less);

(b) Seasonal farm workers;

(c) Federally recognized Indian tribes;

(d) Colonias;

(e) Appalachia's Distressed Counties; or

(f) The Lower Mississippi Delta Region (eight states and 240 counties/parishes).

For these underserved areas, you should ensure that the populations that you serve and the documentation that you provide are consistent with the information described in the above paragraph under this rating factor.

3. Rating Factor 3—Soundness of Approach (21 Points)

This factor addresses the overall quality of your proposed work plan, taking into account the project and the activities proposed to be undertaken; the cost-effectiveness of your proposed program; and the linkages between identified needs, the purposes of this program, and your proposed activities and tasks. In addition, this factor addresses your ability to ensure that a clear linkage exists between innovative rural housing and economic development. In assessing cost-effectiveness, HUD will take into account your staffing levels, beneficiaries to be served, and your timetable for the achievement of program outcomes, the delivery of products and reports, and any anticipated outcome or product. You will receive a greater number of points if your work plan is consistent with the purpose of the Rural Housing and Economic Development program, your program goals, and the resources provided.

a. Management Plan (13 points). A clearly defined management plan should be submitted that: identifies each of the projects and activities you will carry out to further the objectives of this program; describes the linkage between rural housing and economic development activities; and addresses the needs identified in Factor 2, including needs that previously were identified in a statewide or local Analysis of Impediments to Fair Housing Choice (AI) or Consolidated Plan. The populations that were described in Rating Factor 2 for the purpose of documenting need should be the same populations that will receive the primary benefit of the activities, both immediately and over the long term. The benefits should be affirmatively marketed to those populations least likely to apply for and receive these benefits without such marketing. Your timetable should address the measurable short-term and long-term goals and objectives to be achieved through the proposed activities based on annual benchmarks; the method you will use for evaluating and monitoring program progress with respect to those activities; and the method you will use to ensure that the activities will be completed on time and within your proposed budget estimates. Your management plan should also include the budget for your program, broken out by line item. Documented projected cost estimates from outside sources are also required. Applicants should submit their work plan on a spreadsheet showing each project to be undertaken and the tasks (to the extent necessary or appropriate) in your work plan to implement the project with your associated budget estimate for each activity/task. Your work plan should provide the rationale for your proposed activities and assumptions used in determining your project timeline and budget estimates. Failure to provide your rationale may result in your application receiving fewer points for lack of clarity in the proposed management plan.

This subfactor should include information that indicates the extent to which you have coordinated your activities with other known organizations (e.g., through letters of participation or coordination) that are not directly participating in your proposed work activities, but with which you share common goals and objectives and that are working toward meeting these objectives in a holistic and comprehensive manner. The goal of this coordination is to ensure that programs do not operate in isolation. Additionally, your application should demonstrate the extent to which your program has the potential to be financially self-sustaining by decreasing dependence on Rural Housing and Economic Development funding and relying more on state, local, and private funding. The goal of sustainability is to ensure that the activities proposed in your application can be continued after your grant award is complete.

b. Policy Priorities (8 Points). Policy priorities are outlined in detail in the General Section. You should document the extent to which HUD's policy priorities are advanced by the proposed activities. Applicants that include activities that can result in the achievement of the following departmental policy priorities will receive higher rating points in evaluating their application for funding. Seven departmental policy priorities are listed below. When you include policy priorities, describe in brief detail how those activities will be carried out and if selecting item (6), Removal of Barriers to Affordable Housing, be sure to include the required Points of Contact information and documentation or references to the documentation to receive points.

The point values for policy priorities are as follows:

(1) Providing increased homeownership and rental opportunities for low- and moderate-income persons, persons with disabilities, the elderly, minorities, and families with limited English proficiency = 1 point;

(2) Improving our nation's communities = 1 point;

(3) Encouraging accessible design features = 1 point;

(4) Providing full and equal access to grassroots faith-based and other community-based organizations in HUD program implementation = 1 point;

(5) Ending chronic homelessness = 1 point;

(6) Removal of regulatory barriers to affordable housing = 2 points; and

(7) Reducing energy costs = 1 point.

4. Rating Factor 4—Leveraging Resources (10 points)

This factor addresses the extent to which applicants have obtained firm commitments of financial or in-kind resources from other federal, state, local, and private sources. For every Rural Housing and Economic Development program dollar anticipated, you should provide the specific amount of dollars leveraged. In assigning points for this criterion, HUD will consider the level of outside resources obtained in the form of cash or in-kind goods or services that support activities proposed in your application. HUD will award a greater number of points based on a comparison of the extent of leveraged funds with the requested Rural Housing and Economic Development award. The level of outside resources for which commitments are obtained will be evaluated based on their importance to the total program. Your application must provide evidence of leveraging in the form of letters of firm commitment from any entity, including your own organization, that will be providing the leveraging funds to the project. Each commitment described in the narrative of this factor must be in accordance with the definition of “firm commitment,” as defined in section I.B. of this NOFA. The commitment letter must be on letterhead of the participating organization, must be signed by an official of the organization legally able to make commitments on behalf of the organization, and must not be dated earlier than the date this NOFA is published.

Points for this factor will be awarded based on the satisfactory provision of evidence of leveraging and financial sustainability, as described above, and the ratio of leveraged funds to requested HUD Rural Housing and Economic Development funds as follows:

a. 50 percent or more of requested HUD Rural Housing and Economic Development funds = 10 points;

b. 49-40 percent of requested HUD Rural Housing and Economic Development funds = 8 points;

c. 39-30 percent of requested HUD Rural Housing and Economic Development funds = 6 points;

d. 29-20 percent of requested HUD Rural Housing and Economic Development funds = 4 points;

e. 19-9 percent of requested HUD Rural Housing and Economic Development funds = 2 points;

f. Less than 9 percent of HUD requested Rural Housing and Economic Development funds = 0 points.

See the General Section for instructions for submitting third-party letters and other documents with your electronic application.

5. Rating Factor 5—Achieving Results and Program Evaluation (24 points)

This factor emphasizes HUD's commitment to ensure that applicants keep promises made in their application. This factor assesses their performance to ensure that rigorous and useful performance measures are used and goals are met. Achieving results means you, the applicant, have clearly identified the benefits or outcomes of your program. Outcomes are ultimate project end goals. Benchmarks or outputs are interim activities or products that lead to the ultimate achievement of your goals. Program evaluation requires that you, the applicant, identify program outcomes, interim products or benchmarks, and performance indicators that will allow you to measure your performance. Performance indicators should be objectively quantifiable and measure actual achievements against anticipated achievements. Your evaluation plan should identify what you are going to measure, how you are going to measure it, and the steps you have in place to make adjustments to your work plan if performance targets are not met within established time frames.

Applicants must also complete the “Logic Model” HUD Form (HUD-96010) included in the application instructions at http://www.grants.gov/applicants/apply_for_grants.jsp and submit the completed form with their application. HUD has provided an electronic Logic Model that will enable applicants to select from lists the appropriate needs statement(s), activities/outputs, and outcomes that the applicant is proposing in the application submission. The listing of the activities is referred to as the Master Logic Model List and each list is unique to the program funding opportunity. The application instructions found on http://www.grants.gov/applicants/apply_for_grants.jsp include the eLogic Model™ that you can complete and attach to your electronic application submission. Applicants who do not have Microsoft Excel software should contact the SuperNOFA Information Center at 800-HUD-8929. Persons with speech or hearing impairments may access this number via TTY by calling the toll-free Federal Information Relay Service at 800-877-8339. Applicants may select items from each column of the list that reflect their activity outputs and outcomes and copy and paste them into the appropriate column in the Logic Model form. In completing the Logic Model, applicants are expected to select from the lists of appropriate outputs and outcomes for their proposed work plan. The eLogic Model™ and Master Logic Model listing also identify the unit of measure that HUD is interested in collecting for the outputs and outcomes selected. In making the selections for each output and outcome, applicants are to complete the appropriate proposed number of units of measure to be accomplished. The space next to the output and outcome should be used to capture the anticipated units of measure. Multiple outputs and outcomes may be selected per project.

Under this rating factor, applicants will receive a maximum of 24 points. The rating will be in accordance with the matrix found in Attachment 1 of the General Section and how the applicant proposes to effectively address program goals and performance measures. HUD will evaluate and analyze how well an applicant implemented the required Rural Housing and Economic Development output and outcome goals and identified other stated benefits or outcomes of the applicant's program. In order to receive the highest number of points, applicants should present a clear plan to address the RHED output and outcome measures.

a. Output Measures are quantifiable. RHED outputs include: number of housing units constructed; number of housing units rehabilitated; number of jobs created; number of participants trained; number of new businesses created; and number of existing businesses assisted.

b. Outcomes Measures are benefits accruing to the program participants and/or communities during or after participation in the RHED program. RHED outcomes include: the number of housing units rehabilitated that will be made available to low-to-moderate-income participants; the percentage change in earnings as a result of employment for those participants; the percent of participants trained who find a job; annual estimated savings for low-income families as a result of energy efficiency improvements; and the increase in organizational resources as a result of assistance (e.g., dollars leveraged).

You must clearly identify the outcomes to be achieved and measured. Proposed program benefits should include program activities, benchmarks, and interim activities or performance indicators with timelines. Applications should include an evaluation plan that will effectively measure actual achievements against anticipated achievements.

c. Logic Model. HUD requires RHED applicants to develop an effective, quantifiable, outcome-oriented evaluation plan for measuring performance and determining whether goals have been met using the Master Logic Model for RHED. The model can be found in the download instructions portion of the application at http://www.grants.gov/applicants/apply_for_grants.jsp. In preparing your Logic Model, first open the Form HUD-96010 and go to the instruction tab and follow the directions in the tab. Your application must include the form to receive any points under this factor.

This rating factor reflects HUD's goal to embrace high standards of ethics, management, and accountability. HUD will hold a training broadcast via satellite for potential applicants to learn more about Rating Factor 5. For more information about the date and time of the broadcast, consult the HUD Web site at http://www.hud.gov/grants/index.cfm.

Although the following list is not all-inclusive, program outcomes for the Rural Housing and Economic Development program must include, where applicable:

(1) Total number of housing units constructed;

(2) Total number of housing units rehabilitated;

(3) Number of Housing units rehabilitated that will be made available to low- to moderate-income participants;

(4) Number of Housing units constructed that will be made available to low- to moderate-income participants;

(5) Number of jobs created;

(6) Percentage change in earnings as a result of employment for those participants;

(7) Number of participants trained;

(8) Percent of participants trained who find a job;

(9) Number of new businesses created;

(10) Number of existing businesses assisted;

(11) Annual estimated savings for low-income families as a result of energy efficiency improvements.

(12) Increase in program accomplishments as a result of capacity building assistance (e.g. the number of employees hired or retained, or the efficiency or effectiveness of services provided); and

(13) Increase in organizational resources as a result of assistance (e.g., dollars leveraged).

If you receive an award of funds, you will be required to use the Logic Model to report progress against the proposed outcomes in your approved application and award agreement.

The applicant's proposed budget must reflect a breakdown of estimated dollar amount of the Rural Housing and Economic Development grant to be expended on each of the activities/outputs and the anticipated results included on the Form HUD-96010 and under the Rating Factor 5 narrative section of your application.

6. RC/EZ/EC-II Bonus Points (2 Points)

HUD will award two bonus points to all applications that include documentation stating that the proposed eligible activities/projects will be located in and serve federally designated renewal communities (RCs), empowerment zones (EZs), or enterprise communities (ECs) designated by the U.S. Department of Agriculture (USDA) in round II RC/EZ/EC. A listing of federally designated RC/EZ/EC-II is available on the Internet at http://www.hud.gov/crlocator.

This notice contains a certification (Form HUD-2990) that must be completed for the applicant to be considered for Rural EZ/Round II EC bonus points.

B. Review and Selection Process

1. Application Selection Process

a. Rating and Ranking.

(1) General. To review and rate applications, HUD may establish panels that may include outside experts or consultants to obtain certain expertise and outside points of view, including views from other federal agencies.

(2) Rating. All applicants for funding will be evaluated against applicable criteria. In evaluating applications for funding, HUD will take into account an applicant's past performance in managing funds, including the ability to account for funds appropriately, the applicant's timely use of funds received either from HUD or other federal, state, or local programs; its success in meeting performance targets for completion of activities; and the number of persons to be served or targeted for assistance. HUD may use information relating to these items based on information at hand or available from public sources such as newspapers, HUD Inspector General or Government Accountability Office reports or findings, or hotline complaints that have been found to have merit, or other such sources of information. In evaluating past performance, HUD will deduct points from rating scores as specified under Rating Factor 1.

(3) Ranking. Applicants will be selected for funding in accordance with their rank order. An application must receive a minimum score of 75 points to be eligible for funding. If two or more applications are rated fundable and have the same score, but there are insufficient funds to fund all of them, the application(s) with the highest score for Rating Factor 2 will be selected. If applications still have the same score, the highest score in the following factors will be selected sequentially until one highest score can be determined: Rating Factor 3, Rating Factor 1, Rating Factor 5, and Rating Factor 4.

b. Initial screening. During the period immediately following the application deadline, HUD will screen each application to determine eligibility. Applications will be rejected if they:

(1) Are submitted by ineligible applicants;

(2) Do not serve an eligible rural area as defined in section III of this NOFA;

(3) Do not meet the objectives of the Rural Housing and Economic Development program; or

(4) Propose a project for which the majority of the activities are ineligible.

c. Rating Factors for Award Used To Evaluate and Rate Applications. The factors for rating and ranking applicants and the maximum points for each factor are provided above. The maximum number of points for this program is 102. This includes 100 points for all five rating factors and two RC/EZ/EC-II bonus points, as described above.

d. Environmental Review. Each application constitutes an assurance that the applicant agrees to assist HUD in complying with the provisions set forth in 24 CFR part 50. Selection for award does not constitute approval of any proposed site. Following selection for award, HUD will perform an environmental review of activities proposed for assistance under this part, in accordance with 24 CFR part 50. The results of the environmental review may require that proposed activities be modified or that proposed sites be rejected. Applicants are particularly cautioned not to undertake or commit HUD funds for acquisition or development of proposed properties (including establishing lines of credit that permit financing of such activities or making commitments for loans that would finance such activities from a revolving loan fund capitalized by funds under this NOFA) prior to HUD approval of specific properties or areas. Each application constitutes an assurance that you, the applicant, will assist HUD in complying with part 50; will supply HUD with all available relevant information to perform an environmental review for each proposed property; will carry out mitigating measures required by HUD or select alternate property; and will not acquire, rehabilitate, convert, demolish, lease, repair, or construct property, or commit or expend HUD or local funds for these program activities with respect to any eligible property until HUD approval of the property is received. In supplying HUD with environmental information, grantees must use the guidance provided in Notice CPD 05-07, entitled “Field Environmental Review Processing for Rural Housing and Economic Development (RHED) Grants,” issued August 30, 2005, which can be found at http://www.hud.gov/offices/cpd/energyenviron/environment/lawsandregs/notices.cfm. HUD's funding commitment is contingent on HUD's site approval following an environmental review.

e. Adjustments to Funding.

(1) HUD will not fund any portion of your application that is ineligible for funding and does not meet the requirements of this NOFA, or is duplicative of other funded programs or activities from prior year awards or other selected applicants. Only the eligible non-duplicative portions of your application will be funded.

(2) HUD reserves the right to utilize this year's funding to fund previous years' errors prior to rating and ranking this year's applications.

(3) If a balance remains, HUD reserves the right to utilize those funds toward the following year's awards.

(4) Please see the section VI.A.2 and 3 of the General Section for more information about funding.

(5) Performance and Compliance Actions of Funding Recipients. HUD will measure and address the performance and compliance actions of funding recipients in accordance with the applicable standards and sanctions of the Rural Housing and Economic Development program.

f. Corrections to Deficient Applications. After the application deadline date, HUD may not, consistent with its regulations in 24 CFR part 4, subpart B, consider any unsolicited information that you, the applicant, may want to provide. HUD may contact you to clarify an item in your application or to correct technical deficiencies. See section V.B.4. of the General Section for more detailed information on this topic.

VI. Award Administration Information

A. Award Notice

1. HUD will notify you whether or not you have been selected for an award. If you are selected, HUD's notice to you concerning the amount of the grant award (based on the approved application) will constitute HUD's conditional approval, subject to negotiation and execution of a grant agreement by HUD. Successful Rural Housing and Economic Development program applicants will be notified of grant award and will receive post-award instructions by mail.

2. Debriefing. See the General Section for information on how to obtain a debriefing on your application review and evaluation.

B. Administrative and National Policy Requirements

In addition to the requirements listed below, please review all requirements in section III of the General Section.

1. Lead-Based Paint Hazard Control. All property assisted under the Rural Housing and Economic Development program is covered by the Lead-Based Paint Poisoning Prevention Act (42 U.S.C. 4821-4846), the Residential Lead-Based Paint Hazard Reduction Act (42 U.S.C. 4851 et seq.), and HUD's implementing regulations at 24 CFR part 35.

2. Procurement of Recovered Materials. See the General Section for further information.

3. Executive Order 13202, “Preservation of Open Competition and Government Neutrality Towards Government Contractors' Labor Relations on Federal and Federally Funded Construction Projects.” (See the General Section for further information.)

4. Audit Requirements. Any grantee that expends $500,000 or more in federal financial assistance in a single year (this can be program year or fiscal year) must meet the audit requirements established in 24 CFR parts 84 and 85 in accordance with OMB A-133.

5. Accounting System Requirements. The Rural Housing and Economic Development program requires that successful applicants have in place an accounting system that meets the policies, guidance, and requirements described in the following applicable OMB Circulars and Code of Federal Regulations:

a. OMB Circular A-87 (Cost Principles for State, Local, and Indian Tribal Governments);

b. OMB Circular A-122 (Cost Principles for Non-Profit Organizations);

c. OMB Circular A-133 (Audits of States, Local Governments, and Non-Profit Organizations);

d. 24 CFR part 84 (Grants and Agreements with Institutions of Higher Education, Hospitals, and other Non-Profit Organizations); and

e. 24 CFR part 85 (Administrative Requirements for Grants and Cooperative Agreements to State, Local, and Federally Recognized Indian Tribal Governments).

C. Reporting

1. Reporting Requirements. Reporting documents apply to the award, acceptance and use of assistance under the Rural Housing and Economic Development program and to the remedies for noncompliance, except when inconsistent with HUD's Appropriation Act, or other federal statutes or the provisions of this NOFA.

For each semi-annual reporting period, as part of your required report to HUD, grantees must include a completed Logic Model (Form HUD 96010), which identifies output and outcome achievements. For FY2008, HUD is considering a new concept for the Logic Model. The new concept is a Return on Investment statement. HUD will be publishing a separate notice on the ROI concept. If you are reporting race and ethnic data, you must use Form HUD-27061, Race and Ethnic Data Reporting Form.

2. Racial and Ethnic Data. HUD requires that funded recipients collect racial and ethnic beneficiary data. It has adopted the Office of Management and Budget's Standards for the Collection of Racial and Ethnic Data. In view of these requirements, you should use Form HUD-27061, Racial and Ethnic Data Reporting Form (instructions for its use), found on http://www.HUDclips.org, a comparable program form, or a comparable electronic data system for this purpose.

VII. Agency Contact(s)

Further Information and Technical Assistance. For information concerning the HUD Rural Housing and Economic Development program, contact Ms. Linda Streets, Community Planning and Development Specialist, Ms. Monica Wallace, Community Planning and Development Specialist, Mr. James Hedrick, Presidential Management Fellow, or Ms. Nikki Bowser, Community Planning and Development Specialist, Office of Rural Housing and Economic Development, Office of Community Planning and Development, Department of Housing and Urban Development, 451 Seventh Street, SW., Room 7137, Washington, DC 20410-7000; telephone 202-708-2290 (this is not a toll-free number) or 1-877-787-2526 (this is a toll-free number). Persons with speech or hearing impairments may access this number via TTY by calling the toll-free Federal Information Relay Service at 800-877-8339.

Prior to the application deadline, staff will be available at the above number to provide general guidance and clarification of the NOFA, but not guidance in actually preparing your application. Following selection, but prior to award, HUD staff will be available to assist in clarifying or confirming information that is a prerequisite to the offer of an award by HUD.

VIII. Other Information

A. Satellite Broadcast

HUD will hold an information webcast via satellite for potential applicants to learn more about the program and preparation of an application. For more information about the date and time of this webcast, consult the HUD Web site at http://www.hud.gov.

B. The Paperwork Reduction Act

The information collection requirements contained in this document have been approved by the Office of Management and Budget (OMB) under the Paperwork Reduction Act of 1995 (44 U.S.C. 3501-3520) and assigned OMB control number 2506-0169. In accordance with the Paperwork Reduction Act, HUD may not conduct or sponsor and a person is not required to respond to a collection of information, unless it displays a currently valid OMB control number. Public reporting burden for the collection of information is estimated to average 100 hours per annum per respondent for the application and grant administration. This includes the time for collecting, reviewing, and reporting the data for the application, semi-annual reports, and final report. The information will be used for grantee selection and monitoring the administration of funds.

Dated: April 23, 2008.
Nelson R. Bregón,
General Deputy Assistant Secretary for Community Planning and Development.

[FR Doc. E8-9273 Filed 4-25-08; 8:45 am]

BILLING CODE 4210-67-P